DEPARTMENT OF COMMERCE

National Oceanic and Atmospheric Administration

RIN 0648-XG155

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will convene a meeting of its Archipelagic Fishery Ecosystem Plan Team (FEP) and the Fishery Data Collection and Research Committee—Technical Committee (FDCRC-TC). The Archipelagic FEP Team will review the fishery performance, ecosystem consideration, and data integration chapter of the Stock Assessment and Fishery Evaluation (SAFE) Report for the Western Pacific region, conduct the evaluation of the 2017 catches to the 2017 Annual Catch Limits (ACL) for the coral reef, crustacean, and Territory bottomfish fisheries, review of the ecosystem component action, aquaculture, and crustacean Essential Fish Habitat (EFH) review. The FDCRC-TC will review the status of the data collection improvement efforts in the Western Pacific region, progress on the Pacific Island Fisheries Research Program, discuss the collection of fisheries data for management unit species (MUS) and Ecosystem Component Species (ECS), and the implementation of the Marine Recreational Information Program (MRIP)—Pacific Islands Regional Implementation Plan (PIRIP).

DATES: The Archipelagic FEP Team meeting will be held between 8:30 a.m. and 5:00 p.m. on April 30—May 1, 2018. The FDCRC-TC will be held on May 2-3, 2018. For specific times and agendas, see SUPPLEMENTARY INFORMATION.

ADDRESSES: The FEP Team and FDCRC-TC meetings will be held at the Western Pacific Regional Fishery Management Council Conference Room, 1164 Bishop St., Suite 1400, Honolulu, HI 96813; phone: (808) 522-8220.

FOR FURTHER INFORMATION CONTACT: Kitty M. Simonds, Executive Director; phone: (808) 522-8220.

SUPPLEMENTARY INFORMATION: Public comment periods will be provided throughout the agendas. The order in which agenda items are addressed may change. The meetings will run as late as necessary to complete scheduled business.

Agenda for Archipelagic FEP Team Meeting

Monday, April 30, 2018, 8:30 a.m. to 5 p.m.

1. Welcome and Introductions

2. Approval of Draft Agenda, 2017 Report and Assignment of Rapporteurs

3. Report on Previous Plan Team recommendations and Council Actions

4. 2017 Annual SAFE Report

A. Fishery Performance

1. Archipelagic Fisheries Modules

a. American Samoa

1. Coral Reef Fisheries

2. Bottomfish Fishery

3. Crustacean Fishery

4. Precious Coral Fishery

b. Guam

1. Coral Reef Fisheries

2. Bottomfish Fishery

3. Crustacean Fishery

4. Precious Coral Fishery

c. Commonwealth of the Northern Mariana Islands

1. Coral Reef Fisheries

2. Bottomfish Fishery

3. Crustacean Fishery

4. Precious Coral Fishery

d. Hawaii

1. Coral Reef Fisheries (Commercial and Non-Commercial)

2. Bottomfish Fishery

3. Crustacean Fishery

4. Precious Coral Fishery

2. Discussions

3. Public Comment

B. Ecosystem Considerations

1. Protected Species Section

2. Climate, Ecosystems and Biological Section

a. Environmental and Climate Variables

b. Life History and Length-Derived Variables

3. Habitat Section

a. Crustacean EFH Review

4. Socioeconomics Section

5. Marine Planning Section

6. Discussions

7. Public Comment

C. Administrative Reports

1. Number of Federal Permits

2. Regulatory Actions in 2017

3. Discussions

4. Public Comment

D. Data Integration Chapter

1. Draft Data Integration Chapter

2. Predictive Mapping Tool in the Hawaii Non-Commercial Fisheries

3. Discussion on Moving the Analysis Forward for Chapter 3

4. Public Comment

Tuesday, May 1, 2018, 8:30 a.m. to 5 p.m.

5. Web-Interface of the SAFE Report

6. Action Agenda Items

A. Evaluating 2017 Catches to its Respective 2017 ACLs

1. Coral Reef Fisheries

2. Crustacean Fisheries

3. Territory Bottomfish Fisheries

B. Ecosystem Component Amendment

1. Monitoring of Management Unit Species (MUS) and ECS

2. Changes in the SAFE report due to ECS Designation

C. Omnibus Amendment to Establish an Aquaculture Management Program

D. Main Hawaiian Islands Deep 7 Bottomfish Fishery

1. Stock Assessment for the Main Hawaiian Islands Deep 7 Bottomfish Complex 2018, with Catch Projections Through 2022

2. Risk of Overfishing (P*) Working Group Report on the Main Hawaiian Islands Deep 7 Bottomfish Fishery

3. Social, Economic, Ecological, and Management Uncertainty (SEEM) Working Group Report on the Main Hawaiian Islands Deep 7 Bottomfish Fishery

E. Refining Precious Corals EFH—Plan Team Working Group Report

F. Discussions

G. Public Comment

7. Monitoring and Updating Priorities

A. Council's 5-year Research Priorities

B. Cooperative Research Priorities

C. Management Strategy Evaluation Priorities

8. General Discussions

9. Fishery Ecosystem Plan Team Recommendations

10. Other Business

Wednesday, May 2, 2018, 8:30 a.m. to 5 p.m.

Agenda for FDCRC-TC Meeting

1. Welcome and Introductions

2. Approval of Draft Agenda, 2017 Report & Assignment of Rapporteurs

3. Report on Previous FDCRC-TC Recommendations and Council Actions

4. Piecing Together Current Efforts to Improve Fishery Data Collection

5. Status of the Fishery Dependent Data Collection Improvement Efforts

A. American Samoa

B. Guam

C. CNMI

D. Hawaii

E. MRIP and Territory Science Initiative Projects

F. Western Pacific Fishery Information Network Database Transition and Online Interface

G. Discussions

H. Public Comment

6. Updates on Ecosystem Monitoring and Research

A. Life History Research

B. Ecosystem Research

C. Socio-Economics

D. Guam Ecosystem Research

E. Discussions

F. Public Comment

7. Pacific Islands Fisheries Research Program

A. Climate Change Impacts on the American Samoa Coral Reef Fisheries

B. Bayesian Approach to Catch Estimation

C. Hawaii and Guam Fishing Community Perceptions of the Marine Protected Area Siting Process and its Implications

D. Discussions

E. Public Comment

8. Marine Recreational Information Program/Territory Science Initiative

A. MRIP Pacific Islands Regional Implementation Plan (MRIP PIRIP)

B. Description of the Certification Process

C. Discussion on the Preparation for the MRIP PIRIP Implementation

D. Future of Territory Science Initiative

E. Public Comment

Thursday, May 3, 2018, 8:30 a.m. to 12 noon

9. MUS and ECS Monitoring

A. Need for Monitoring Changes

B. Discussion on Potential Changes in the Data Collection System

C. Discussion on Potential Changes to the Database and Reporting

D. Discussion on Potential Funding to Support the Data Collection Changes

E. Discussion on Potential Legislative Support for Data Collection Changes

F. Public Comment

10. General Discussions

11. Other Business

12. FDCRC-TC Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: April 6, 2018.
Tracey L. Thompson,
Acting Deputy Director, Office of Sustainable Fisheries, National Marine Fisheries Service.

[FR Doc. 2018-07472 Filed 4-10-18; 8:45 am]

BILLING CODE 3510-22-P